NUCLEAR REGULATORY COMMISSION

[Docket No. 50-219; NRC-2025-0907]

Holtec Decommissioning International, LLC; Oyster Creek Nuclear Generating Station; License Termination Plan

AGENCY: Nuclear Regulatory Commission.

ACTION: Public meeting; request for comment.

SUMMARY: The U.S. Nuclear Regulatory Commission (NRC) is considering a request from Holtec Decommissioning International, LLC (HDI) seeking approval of a license amendment application approving the license termination plan (LTP). The NRC requests public comments on the remaining decommissioning activities at the Oyster Creek Nuclear Generating Station (OCNGS) as described in the LTP amendment application for the OCNGS. The NRC plans to hold a public meeting to promote full understanding of the requested action and to facilitate public comment.

DATES: The public meeting will be held on Wednesday, September 17, 2025, at the Lacey Township Municipal Building Court Room, 818 Lacey Road, Forked River, New Jersey 08731, from 6 p.m. until 9 p.m. eastern time (ET). The public meeting is also available through an online webinar or by phone. See section III “Request for Comment and Public Meeting” of this document for additional information. Submit comments by October 14, 2025. Comments received after this date will be considered if it is practical to do so, but the NRC is able to ensure consideration only for comments received on or before this date.

ADDRESSES: You may submit comments by any of the following methods; however, the NRC encourages electronic comment submission through the Federal rulemaking website:

• Federal rulemaking website: Go to https://www.regulations.gov and search for Docket ID NRC-2025-0907. Address questions about Docket IDs in Regulations.gov to Bridget Curran; telephone: 301-415-1003; email: Bridget.Curran@nrc.gov. For technical questions, contact the individual(s) listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Amy M. Snyder, Office of Nuclear Material Safety and Safeguards, U.S. Nuclear Regulatory Commission, Washington, DC 20555-0001; telephone: 301-415-6822; email: Amy.Snyder@nrc.gov.

SUPPLEMENTARY INFORMATION:

I. Obtaining Information and Submitting Comments

A. Obtaining Information

Please refer to Docket NRC-2025-0907 when contacting the NRC about the availability of information for this action. You may obtain publicly available information related to this action by any of the following methods:

• Federal Rulemaking Website: Go to https://www.regulations.gov and search for Docket ID NRC-2025-0907.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. ET, Monday through Friday, except Federal holidays.

B. Submitting Comments

The NRC encourages electronic comment submission through the Federal rulemaking website (https://www.regulations.gov). Please include Docket ID NRC-2025-0907 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

HDI is the holder of Renewed Facility Operating License No. DRP-16 for OCNGS. The license provides, among other things, that the facility is subject to all rules, regulations, and orders of the NRC now or hereafter in effect. The facility consists of a single unit boiling water reactor (BWR) that was utilized for the generation and transmission of electric power using nuclear fission as the source of production. The plant entered commercial operation on December 23, 1969. The reactor was refueled 26 times during operation spanning a period of almost a half-century and was the oldest U.S. BWR at the time of permanent shutdown and defueling in 2018. By letter dated August 1, 2024 (ADAMS Accession No. ML24214A037), as supplemented by letters dated March 27, 2025 (ADAMS Accession No. ML25086A156), April 29, 2025 (ADAMS Package Accession No. ML25119A267) and May 13, 2025 (ADAMS Accession No. ML25133A131), HDI requested approval of a proposed amendment to the Renewed Facility Operating License DPR-16 for OCNGS to include LTP requirements.

III. Request for Comment and Public Meeting

According to paragraph 50.82(a)(9)(iii) of title 10 of the Code of Federal Regulations (10 CFR), after the licensee submits an LTP, the NRC must hold a public meeting near the site. In accordance with 10 CFR 50.82(a)(9)(iii) and 20.1405, upon the receipt of an LTP from a licensee, NRC must publish a notice in the Federal Register and solicit comments from affected parties. The purpose of the meeting is for the NRC staff to meet with stakeholders and discuss the NRC's review of the LTP and request public comments on the LTP. In addition, please see the related notice regarding the LTP proposed no significant hazards consideration determination and opportunity to request a hearing and petition to intervene (90 FR 30110, July 8, 2025). The meeting will be held on Wednesday, September 17, 2025, at the Lacey Township Municipal Building Court Room, 818 Lacey Road, Forked River, New Jersey 08731, from 6 p.m. until 9 p.m. ET. Please contact Amy M. Snyder at 301-415-6822 or by email at Amy.Snyder@nrc.gov no later than September 3, 2025, if accommodations or special equipment are needed for you to attend or to provide comments, so that the NRC staff can determine whether the request can be accommodated.

For additional information regarding this meeting see the NRC's Public Meeting Schedule website for information https://www.nrc.gov/pmns/mtg. The agenda will be posted no later than 10 days prior to the meeting.

Dated: August 12, 2025.
For the Nuclear Regulatory Commission.
Michelle Sutherland,
Acting Chief, Reactor Decommissioning Branch, Division of Decommissioning, Uranium Recovery, and Waste Programs, Office of Nuclear Material Safety and Safeguards.

[FR Doc. 2025-15535 Filed 8-14-25; 8:45 am]

BILLING CODE 7590-01-P